DEPARTMENT OF TRANSPORTATION

National Highway Traffic Safety Administration

49 CFR Part 571

[Docket No. NHTSA-2007-28707]

RIN 2127-AJ59

Federal Motor Vehicle Safety Standards; Occupant Crash Protection

AGENCY: National Highway Traffic Safety Administration (NHTSA), Department of Transportation (DOT).

ACTION: Final rule; denial of petition for rulemaking.

SUMMARY: This final rule establishes specific test procedures for installing child restraints to a child restraint anchorage system, commonly referred to as a “LATCH” system, in a front passenger seating position in vehicles certified to meet advanced air bag requirements through the use of a suppression system or a low risk deployment (LRD) system.¹ The test procedures ensure that the child restraints are installed in a repeatable and reproducible manner.

¹ The LRD option involves deployment of the air bag in the presence of a Child Restraint Air Bag Interaction (CRABI) test dummy, representing a 12-month-old child, in a rear-facing child restraint.

Because vehicle manufacturers need sufficient time to certify that their vehicles meet FMVSS No. 208 suppression or LRD requirements when tested with these procedures, the compliance date of this final rule is September 1, 2008. NHTSA will apply these test procedures to vehicles manufactured on or after September 1, 2008 that have a LATCH system in a frontal seating position and that are certified to meet advanced air bag requirements through the use of a suppression or LRD system.

DATES: The amendments made by this final rule are effective September 1, 2007. The compliance date for this final rule is September 1, 2008.

Petitions for reconsideration: Petitions for reconsideration of this final rule must be received not later than September 7, 2007.

ADDRESSES: Note that NHTSA's address has changed. Petitions for reconsideration of this final rule must refer to the docket number set forth above and be submitted to the Administrator, National Highway Traffic Safety Administration, 1200 New Jersey Avenue, SE., West Building, Washington, DC. 20590, with a copy to Docket Management, 1200 New Jersey Avenue, SE., West Building, Ground Floor, Room W12-140, Washington, DC 20590. Note that all comments received will be posted without change to http://dms.dot.gov, including any personal information provided. Please see the Privacy Act heading under Rulemaking Analyses and Notices.

Docket: For access to the docket to read background documents, go to http://dms.dot.gov, or to 1200 New Jersey Avenue, SE., West Building, Ground Floor, Room W12-140, Washington, DC. 20590, between 9 a.m. and 5 p.m., Monday through Friday, except Federal Holidays.

FOR FURTHER INFORMATION CONTACT: Ms. Carla Cuentas, Office of Crashworthiness Standards, Light Duty Vehicle Division (telephone 202-366-4583, fax 202-493-2739). For legal issues, contact Ms. Deirdre Fujita, Office of Chief Counsel (telephone 202-366-2992, fax 202-366-3820). Both of these officials can be reached at the National Highway Traffic Safety Administration, 1200 New Jersey Avenue, SE., West Building, Washington, DC 20590.

SUPPLEMENTARY INFORMATION:

Table of Contents

I. Background

II. Comments on the NPRM and Agency Responses Thereto

a. Objectivity of the Test Procedure

1. Variability in Sensor Outcomes

2. Distance Measurement

3. Passive Occupant Detection System B

b. Adjustments to Test Procedure

1. Tightening (cinching) the Lower Anchor Straps

2. Order of Steps

3. Seat in Full Rearmost Position—Rigid LATCH

4. Load Angle tolerance—Rigid LATCH

5. Reduction of Load—Rigid LATCH

6. 600 N Force—Correction

c. Suggestions Not Taken By NHTSA

1. Base

2. Foot Prop

3. Seat Back Contact

III. Compliance Date

IV. Denial of Petition for Rulemaking

V. Rulemaking Analyses and Notices

I. Background

Federal Motor Vehicle Safety Standard (FMVSS) No. 208, “Occupant crash protection” (49 CFR 571.208), requires passenger vehicles to be equipped with safety belts and frontal air bags for the protection of vehicle occupants in crashes. On May 12, 2000, NHTSA published a final rule to require that air bags be designed to provide improved frontal crash protection for all occupants, by means that include advanced air bag technology (“Advanced Air Bag Rule,” 65 FR 30680, Docket No. NHTSA 00-7013). Under the Advanced Air Bag Rule, manufacturers are provided several compliance options in order to minimize the risk to infants and small children from deploying air bags, including options to suppress an air bag in the presence of a child restraint system (CRS) or to provide an LRD system.

Manufacturers choosing to rely on an air bag suppression system or LRD system to minimize the risk to children in a CRS must ensure that the vehicle complies with the suppression or LRD requirements when tested with the CRSs specified in Appendix A of the standard (see S19, S21 and S23 of FMVSS No. 208). On November 19, 2003, NHTSA revised Appendix A by adding two CRSs that are equipped with components that attach to a vehicle's LATCH ² system (68 FR 65179, Docket No. NHTSA 03-16476). Vehicles that have a LATCH system in a front designated seating position and are certified as meeting the suppression or LRD requirements must meet the requirements when tested with the CRSs installed on the LATCH system.³

² “LATCH” stands for “Lower Anchors and Tethers for Children,” a term that was developed by industry to refer to the standardized user-ready child restraint anchorage system that vehicle manufacturers must install in vehicles pursuant to FMVSS No. 225, Child Restraint Anchorage Systems (49 CFR 571.225). The LATCH system is comprised of two lower anchorages and one tether anchorage. Each lower anchorage is a rigid round rod or bar onto which the connector of a child restraint system can be attached. The upper anchorage is configured to permit the attachment of a tether hook of a CRS. FMVSS No. 225 (paragraph S5(d)) does not permit vehicle manufacturers to install LATCH systems in front designated seating positions unless the vehicle has an air bag on-off switch meeting the requirements of S4.5.4 of FMVSS No. 208.

³ The compliance date of the provision specifying testing with CRSs equipped with components that attach to a LATCH system (hereinafter referred to as “LATCH-equipped CRSs”) was originally delayed from September 1, 2004 to September 1, 2006 (69 FR 51598, Docket 18905) and was later delayed to September 1, 2007 (71 FR 51129, Docket 21244). A new compliance date will be set by today's final rule.

When the two child restraints were added to Appendix A by the 2003 final rule, the agency believed that the CRS manufacturer's installation instructions could be used to install the child restraints in a test vehicle. It became apparent, however, that more specific installation instructions were needed to provide a repeatable means of installing the restraints for suppression and LRD testing. To address this need for more specific instructions, NHTSA published the NPRM preceding this final rule (May 19, 2005, 70 FR 28878, Docket 21244; extension of comment period, July 13, 2005, 70 FR 40280). The NPRM proposed a specific procedure for installing the CRSs that the agency believed would ensure repeatable and reproducible installation of the child restraints for compliance test purposes. The procedure was based on how CRSs are installed by trained technicians in the real world.

Proposed Test Procedure

There are two types of LATCH-equipped child restraint systems: those that have the LATCH components attached to them by means of flexible belt webbing (hereinafter “flexible LATCH CRSs”); and those using a rigid ratchet mechanism built into the CRS (“rigid LATCH CRSs”). The NPRM proposed two sets of procedures for attaching LATCH-equipped CRSs to the LATCH system in subject vehicles, one set for each of these two types of LATCH-equipped child restraint systems. A test report describing the procedures was placed in the docket for the NPRM (“Test Report, FMVSS No. 208; LATCH Equipped Child Restraint Test Procedures, Revision 1,” Docket 21244-2; 21255-5).

Proposed Test Procedure for Flexible LATCH CRSs

The test procedure for installing flexible LATCH CRSs was developed by NHTSA to replicate real-world CRS installations in vehicles by experienced installers, particularly with respect to the appropriate load vector to be applied and the amount of load relief when LATCH belts were manually tightened (“Test Report,” id.). Child restraints installed by experienced installers are usually more tightly fastened against the vehicle seat than restraints installed by those less experienced. The agency believed that the more tightly fastened a CRS is to the vehicle seat, the greater the likelihood that the suppression system will fail to suppress the air bag (i.e., the greater the likelihood that the air bag system will misread the load on the seat to be that of an adult passenger rather than a load generated by a tightly-cinched CRS). Thus, the agency believed that the tightly-cinched CRS represented a worst-case scenario for the harm addressed by this rulemaking, as compared to a more loosely fastened CRS, and that the worst-case scenario was desirable to ensure that the air bags would be suppressed in more circumstances in the presence of a child restraint than not.

Under the proposed procedure, a flexible LATCH CRS would be centered between the vehicle seat's two lower LATCH anchor bars, and the child restraint's LATCH components connected to the vehicle's anchor bars with slack in the straps. A loading device, consisting of a loading bar, load cell, and loading bar foot, would be placed at the CRS seat bight (the intersection of the CRS seat cushion and seat back) at an angle of 15±3 degrees from vertical. It was proposed that the device would apply a load to the CRS, replicating installers using their weight to install a CRS. The loading device would first apply a preload of 50 to 100 Newtons (N) to the CRS, which would be then increased to 875±10 N. It was proposed that after the load settled to between 845 and 855 N, the flexible LATCH straps, already attached to the anchor bars but not yet in tension, would be manually tightened (cinched) such that the change in the preload is not more than 25 N.

The procedure was developed to replicate installations of four experienced installers who worked with three vehicles and four CRSs.⁴ Agency tests had demonstrated that the proposed procedure resulted in a CRS installation representative of a real-world installation by these installers. The distance of a target on the side of the CRS to the LATCH anchor bars was measured to determine the positioning of the CRS after various installations. There was no statistically significant difference in the test results between tests in which the installations were made by the technicians using the test procedure and tests in which the CRSs were installed in real-world fashion, i.e., without using the proposed procedure. When the loading device and test procedure were used by individual technicians, the level of positioning repeatability achieved was similar to that achieved by any single installer without the device and procedure.

⁴ The vehicles used were: (a) The 2003 GMC Sierra Regular Cab C1500 Truck, certified to the advanced air bag requirements; (b) the 2003 Toyota Tacoma Regular Cab Truck, certified with depowered air bags; and (c) the 2004 Ford F150 Regular Cab Truck, certified to the advanced air bag requirements. The CRSs used were: (a) The Cosco Forerunner convertible child restraint; (b) the Cosco Alpha-Omega convertible child restraint; (c) the Graco SnugRide rear-facing child restraint; and (d) the Britax Expressway convertible child restraint.

Accordingly, the agency tentatively concluded that installing a CRS with the test device:

• Results in a CRS installation reflective of real-world installation by experienced CRS installers;

• Results in a repeatable installation independent of the installer; and

• Can result in a suppression system test failure representative of real-world use. 70 FR at 28880.

Test Procedure for Rigid LATCH CRSs

Rigid LATCH CRS systems typically have a ratchet mechanism built into a rigid structure to obtain a tight/snug fit between the CRS and the vehicle seat. Because flexible webbing material is not used to attach the LATCH components, rigid LATCH CRSs limit the potential variability in installation. They also do not exhibit the tendency of flexible LATCH CRSs to load the vehicle seat cushion with a distinct downward force that some suppression systems have interpreted as being generated by an adult occupant.

In the proposed installation procedure for rigid LATCH CRSs, the rigid LATCH CRS would be centered in a vehicle seat. The lower anchor attachments would then be connected to the vehicle's anchor bars pursuant to the CRS manufacturer's instruction. The CRS would then be moved rearward (relative to the vehicle seat) until it contacted the vehicle seat back. If the CRS were equipped with a linear sliding or ratcheting mechanism that requires the application of force to securely install the CRS, a force of 600 N would be applied to the CRS in a plane parallel to the plane formed by the linear mechanism. The load would then be removed and the suppression or LRD test performed.

II. Comments on the NPRM and Agency Responses Thereto

NHTSA received comments on the NPRM from the Alliance of Automobile Manufacturers (“the Alliance” ⁵) dated August 17, 2005 and January 20, 2006. In addition, representatives from General Motors (GM) met with NHTSA staff to discuss GM's evaluation of various procedures for installing LATCH-equipped child restraints, including the NPRM procedure (Docket 21244-9).

⁵ Members of the Alliance are BMW Group, DaimlerChrysler, Ford Motor Company, General Motors, Mazda, Mitsubishi Motors, Porsche, Toyota, and Volkswagen.

As discussed below, the Alliance did not support the proposed test procedure for attaching flexible LATCH CRSs. The commenter did not oppose the test procedures for attaching rigid LATCH child restraints, but did suggest changes to the procedures (some of which NHTSA has adopted in this final rule).

a. Objectivity of the Test Procedure

1. Variability in Sensor Outcomes

The Alliance opposed the proposed test procedure for attaching flexible LATCH CRSs, believing that the procedure “allows too much variability in test outcomes in otherwise identical test circumstances, making the procedure insufficiently objective.” The Alliance stated that it did not believe that the procedure was repeatable and reproducible because many of the installations performed by the installers, with and without the device, resulted in non-suppression of the passenger air bag for both the Sierra and the F-150. Overall, 36 installations resulted in suppression, and 32 installations resulted in non-suppression. The commenter stated that it did “not understand how a test program that yielded a ‘pass/fail’ ratio of approximately 50/50 could be deemed to support a conclusion that the test procedure is repeatable and reproducible.” The commenter believed that the data suggest that NHTSA has not yet defined a sufficiently objective test procedure to differentiate between passing and failing performance in the test.

Response: The agency does not agree that the inconsistent performance of seat sensors leading to suppression or non-suppression of the air bag demonstrates the lack of repeatability of the test procedure used to install the LATCH restraints. The installation procedure is intended to, and achieves, consistent and repeatable CRS installations on the vehicle seat. As explained in the May 2005 NPRM, NHTSA used the procedure to install four child restraints multiple times in several vehicles, and compared those installations to those done without the procedure by four experienced installers. When the same CRS model was installed in the same vehicle, the child restraints were installed comparably, as indicated by the angle of the installed CRS and the distance between the lower anchor bars and a defined reference point on the CRS. These two parameters were selected as criteria which were reliable and readily determined. (The “distance measurement,” the average of the inboard and outboard distance values, was used in the analysis since the angle of the installed seat was positively correlated with the distance measurement.) There was no statistically significant difference between the installations achieved using the test procedure and those done by the technician alone, following the CRS manufacturer's installation instructions. (“Test Report, FMVSS No. 208, LATCH Equipped Child Restraint Installation Procedures, Revision 1,” supra.)

Moreover, as also discussed in the Test Report, id., when the same CRS model was installed in the same vehicle using the test procedure for installing the LATCH restraints, the air bag suppression systems performed consistently; i.e., air bags in the vehicles were suppressed using the procedure in all but one instance. The exception was the installation of the Britax Expressway in the GMC Sierra, which resulted in a suppressed air bag in one trial and a failed suppression in a second trial. This same phenomenon occurred with one of the certified installers not using the device. Because the only instances of a failed suppression occurred with the one vehicle, the difference in air bag suppression status appears to be a reflection of the characteristics of the suppression system rather than that of the repeatability of the test procedure.

The commenter believes that the inconsistent performance of the seat sensors across vehicles should be attributed to the test procedure used to install the child restraints on the vehicle seats. We do not agree. The use of the seat sensors as the instrument for evaluating repeatability of the CRS installation across platforms assumes that seat sensors are designed to evaluate LATCH-installed child restraints. There is no basis for that assumption. There are a variety of different sensors for manufacturers to choose from, and a number of design features that can differ from design to design, such as differences in location, shape, algorithms, etc. Therefore, one cannot base the repeatability of this installation procedure on the output of an unknown sensor.

In its comment, the Alliance said it did not understand NHTSA's decision to evaluate an advanced air bag test procedure for LATCH CRS installations in the 2003 Toyota Tacoma regular cab truck, a vehicle that has depowered air bags and no advanced air bag system. The agency's test of this vehicle was not at all related to the presence or absence of an advanced air bag system. Instead, we tested this vehicle because the vehicle had a LATCH system in the front passenger seating position, and the agency wished to assess whether the test procedure under consideration resulted in consistent and repeatable installation of the child restraint. Since we were testing the repeatability of the CRS installations, it was of no consequence that the vehicle did not have an air bag suppression system.⁶

⁶ We note that NHTSA conducted follow-up testing on a 2005 Toyota Tacoma with LATCH and a front seat suppression sensing system. As a matter of interest, the 2005 Toyota Tacoma's sensing system was able to properly classify several child restraints used in previous tests and suppress the air bag, when installed using both the NPRM procedure and the procedure in this final rule (the differences between the two are minor and are discussed in the next section of this preamble).

It should also be noted that the very tight child restraint installations achieved by the test procedure presented worst-case scenarios (in producing loads on the vehicle seat that were most likely to be misread by a sensor as being generated by an adult occupant). From the information obtained on sensor performance in the aforementioned test program, some sensors may need to be enhanced to distinguish between a tightly-cinched flexible LATCH child restraint and an adult occupant. This final rule provides sufficient lead time for manufacturers to adjust sensing systems to make this distinction using the installation procedures of this final rule.

2. Distance Measurement

The Alliance disagreed with the agency's conclusion that there was no statistically significant difference between the installations performed by the installers with and without the use of the loading device per the final procedure. The commenter stated that “this conclusion apparently reflects only the ‘distance between the lower anchor bars and a defined reference point on the CR,’ measured at both the inboard and outboard locations, and then averaged.” The commenter said that NHTSA never explains the significance of the “distance measurement” as a suitable parameter for measuring any performance expectation for the vehicle's air bag system.

Response: As explained above, the distance measurement is not meant to be correlated to air bag system performance. It is an independent measure of the CRS installation, i.e., it is intended to correlate to how tightly the CRS was installed. For instance, the tighter the CRS installation is, the shorter the distance measurement. As such, NHTSA continues to believe that the distance measurement used for that purpose is valid and meaningful, since the purpose of the test procedure is to assure consistent installation of the LATCH CRS.

3. Passive Occupant Detection System B

General Motors (GM) informed NHTSA that it independently constructed the proposed CRS loading bar device according to the specifications provided in the NPRM (item #9 in NPRM docket). GM stated that it conducted 30 installations according to the proposed procedure, all of which resulted in suppression of the passenger air bag. GM stated that the vehicles it tested used the Passive Occupant Detection System B (PODS-B) for their passenger automatic suppression systems. This sensing system classifies the seat as empty, or the occupant as an adult or child, based on the loading force on the seat.

While the occupant classification outcome was consistent in all of GM's tests, GM stated that they noticed that the PODS-B output varied significantly. GM believed that the variance in the output of the PODS-B was mostly a function of the cinching procedure. It stated that when cinching the straps according to the proposed test procedure, the PODS-B pressure counts were not well correlated with the value of the post cinch load, which caused a variance in the PODS-B output.

Response: We believe that the PODS-B pressure counts may not be valid for use as an indicator of the repeatability or objectivity of the LATCH seat installation procedure, because the expected level of variability in the PODS-B output for a consistent LATCH seat installation has not been shown. NHTSA reviewed the data supplied by GM to try to understand why the results from the GM data-set differed from the NHTSA data-set (item #5 in NPRM docket) for the same vehicle model regarding suppression status of the air bags. On September 21, 2005, a NHTSA engineer evaluated both the NHTSA loading device and the GM loading device at the GM Proving Grounds. The results of the testing performed are included in a memorandum entered into the docket for this final rule. When compared in side-by-side tests, the devices produced comparable installations. While the testing revealed no explanation for the differences between the NHTSA NPRM data set and the GM data set entered into the docket, it appears that the PODS-B systems used in the test vehicles at GM were not in the factory-calibrated production condition. Discussions with GM (see docketed memorandum) indicated that adjustment of key parameters may have occurred for the PODS-B software after factory calibration. Post-production calibration of the system could account for the disagreement of the NHTSA NPRM data set and the GM data set with respect to suppression status.

NHTSA also calibration checked our test device to make sure that the complete loading system accurately reflected the true load applied by the loading device to the CRS. The calibration tests showed that the setup was accurate within 2 N for the entire load range from 0-900 N. The agency also applied exaggerated eccentric or off-axis loads to the device, to evaluate whether the device was accurate even under the most extreme conditions. The tests showed negligible (1-3 N) off-axis affects. NHTSA later obtained a used 2004 Chevrolet Silverado in the fall of 2005 and conducted tests using both the NPRM procedure and the final rule test procedure. Both procedures produced similar results and closely matched the original NHTSA test results. Id. Based on the agency's follow-on testing, NHTSA has concluded that the original testing performed in support of this rule was valid.

b. Adjustments To Test Procedure

1. Tightening (Cinching) the Lower Anchor Straps

The NPRM proposed that the loading device would first apply a preload of 75±25 N to the CRS, and that the preload would then be increased to 875±10 N. The proposed procedure specified that after the load settles to between 850±5 N, the flexible LATCH straps would be manually tightened such that the load would only be reduced by 15±10 N within 2 seconds (proposed S20.2.1.6.1(f) and (g); S22.2.1.6.1(g) and (h)). In its August 17, 2005 comment, the Alliance observed that sometimes it was difficult to tighten the flexible straps before the load would drop below 825 N. The commenter indicated that seat cushion stiffness can cause the load on the test device to decrease at a fairly significant rate within the time window provided.

Response: We have observed in our follow-up test program that for certain vehicles (see “Test Report, FMVSS No. 208 LATCH Installation Procedures, Follow-on Testing in Response to NPRM Comments,” April 5, 2007, placed in the docket for this final rule), after achieving the appropriate load condition, the applied load measured on the CRS continued to drop if the seat cushion was not very stiff, making it difficult to tighten the flexible straps to a consistent tension before the load dropped below 825 N. To address this observed load drift, we have added two one-minute settling periods to the test procedure. Under the revised procedure (see S20.2.1.6.1(g) through (j) of this final rule), after achieving the 875 N load for the first time, we will allow the load to settle for 60 seconds, after which the load will be increased to 875±25 N within 10 seconds. The load will again be allowed to settle until 120 seconds has elapsed since first achieving 875±25 N, after which it will be increased to 875±25 N within 10 seconds. When the load settles to 850±5 N, or when 180 seconds has elapsed since first achieving the 875±25 N load, whichever comes first, we will tighten the lower anchor strap(s) such that the load as measured by the load cell on the loading device is reduced 15±10 N within 2 seconds. These changes do not significantly affect the installation location of the CRS, but they do make it easier for a technician to perform the cinching action.

In addition, after testing various vehicles, we also determined that settling times could be better stabilized if the loading device were supported by a rigid mount against the upper door frame structure, rather than the vehicle's roof structure as specified in the NPRM (see April 5, 2007 test report). The roof structure has padding and other materials that can affect the loads applied to the child restraint when the loading bar support is mounted against it. Using a rigid mount against the upper door frame structure improves the ability to achieve the proper loads for the cinching procedure. Thus, the agency's compliance test procedure will specify that the loading bar is supported by a rigid mount against the upper door frame structure.

2. Order of Steps

The Alliance has recommended that we switch the order of steps S20.2.1.6.1(c) and (d), as well as steps S22.2.1.6.1(c) and (d). The commenter stated that, based on GM's testing experience, it is easier to connect the lower anchor straps before the restraint is moved rearward.

Response: Based on our testing and analysis, we concur with the recommendation and have made the appropriate changes to the procedure in this final rule.

3. Seat in Full Rearmost Position—Rigid LATCH

The Alliance stated that, while in some cases it is possible to fit a force gauge between the instrument panel and the child restraint at mid-track position, the space for loading is not conducive for achieving the proposed 600 N load. The Alliance recommended that the installation be conducted with the seat in the full rearward position.

Response: Based on our test experience, we agree that the installation can be difficult in the forward and mid-track positions. Therefore, NHTSA has changed the procedure to specify that the CRS is installed with the vehicle seat in the rearmost position and that the vehicle seat is moved forward for the suppression or LRD test after CRS installation. This change has been made to sections S20.2.1.6.2(a), S20.2.1.6.2(i), S22.2.1.6.2(a), and S22.2.1.6.2(i) of the final rule regulatory text.

4. Load Angle Tolerance—Rigid LATCH

The Alliance stated that it is difficult to control loading when applying the handheld force gage “in a parallel plane located within ±100 mm of the plane formed by the linear mechanism,” as stated in S20.2.1.6.2(f) and S22.2.1.6.2(g) of the proposed regulatory text. The Alliance recommended that a tolerance be applied to the required loading angle.

Response: NHTSA concurs with the suggestion. Based on agency testing and in consideration of the tolerances included in FMVSS No. 210 and No. 225, we are incorporating a ±10 degree tolerance to the required loading angle in sections S20.2.1.6.2(g) and S22.2.1.6.2(h) of today's regulatory text.

5. Reduction of Load—Rigid LATCH

The Alliance suggested that we change the applied load value from 600 N to 475±25N for installation of rigid mount LATCH seats. The commenter believes that it is “extremely difficult” to apply 600 N of load without using a reaction surface somewhere in the vehicle, but that a reaction surface on or in front of the instrument panel “could potentially cause damage to vital vehicle components and is not recommended.” In addition, the commenter stated that an installer can apply 600 N of load, but once the force on the seat is released, the load backs off to the last “click” on the ratcheting device of the CRS. For these reasons, the Alliance believed that an applied load of 475±25 N would be more reasonable than the proposed load, “yet it still requires a substantial amount of effort by the installer.”

Response: The commenter did not provide any data supporting this request for the reduction in the applied load. However, as a result of our own testing, we agree with the suggestion to adjust the applied load value to 475±25N. The April 5, 2007 test report discusses additional tests supporting the adjusted change to 475±25N for the applied load. The data indicate that using a load of 475±25N achieves an installation comparable to that of certified CPS technicians.

6. 600 N Force—Correction

The proposed procedure specified that “to securely install the child restraint, in 25±5 seconds, apply a 600N force * * *” The Alliance stated that it interprets this phrase as meaning that the force will be applied within 25±5 seconds, not maintained for 25±5 seconds.

Response: The commenter's understanding is correct. We have clarified the regulatory text of this final rule in sections S20.2.1.6.2(g) and S22.2.1.6.2(h).

c. Suggestions Not Taken By NHTSA

1. Base

The Alliance recommended that the suppression testing installation procedures include instructions on removing the carrier from the base and to attach the base to the vehicle separately. The commenter suggested adding the phrase “Place the child restraint, or removable base” to the installation procedures.

Response: In the testing performed by NHTSA, this step has not been necessary to install these types of infant restraints. Further, the commenter did not provide any specific examples of CRSs that would require the use of the suggested procedure. Because the procedure is not needed for the test procedure, we are declining the request.

2. Foot Prop

The Alliance suggested an additional step for CRSs, such as the Britax Baby-Safe, that include a foot prop that needs to be adjusted after the base has been attached. The additional step would instruct the installer to install these items per the manufacturer's instructions.

Response: We are declining this request. A step about adjusting a foot prop is not necessary. If a particular CRS incorporates features and adjustments, the agency will continue to follow the CRS manufacturer's installation instructions to the extent possible in positioning the adjustments as specified in S20.2.1.6.1(b) and other similar sections of the standard. We also note that the CRS in question is no longer in production in the U.S. market.

3. Seat Back Contact

The NPRM included the following statement in sections S20.2.1.6.1(c), S20.2.1.6.2(e), S22.2.1.6.1(c), and S22.2.1.6.2(d): “Move the child restraint rearward until it contacts the seat back.” The Alliance considered this statement redundant to the CRS manufacturer's installation instructions and recommended eliminating it. The commenter also stated that there may be instances where the CRS contacts the head restraint before contacting the seat back. The Alliance did not refer to any specific examples of CRSs that raised the concern.

Response: Although the statement at issue may in some cases be redundant, we are retaining this step for cases where the CRS manufacturer's instructions are silent on the issue. With regard to head restraint contact, NHTSA has specifications for positioning the head restraint in the general provisions of the test setup. Further, we view the head restraint to be a part of the seat back setup. Thus, under the installation procedures adopted today, the CRS would be placed in a stable position with the planes aligned per step S20.2.1.6.1(a) on the seat cushion and moved rearward following the surface of the seat cushion until contact is made between the CRS and the seat back (including the head restraint).

III. Compliance Date

The compliance date for this final rule is September 1, 2008. This compliance date provides enough lead time for manufacturers to evaluate and certify their vehicles using the test procedures specified in this final rule, while ensuring the satisfactory performance of vehicles' suppression and LRD systems in an expeditious manner.

IV. Denial of Petition for Rulemaking

On March 20, 2006, the Alliance petitioned NHTSA to remove the Britax Expressway ISOFIX CRS from FMVSS No. 208, Appendix A, Section C. The Britax Expressway ISOFIX CRS was one of the two LATCH CRSs added by the November 19, 2003 FMVSS No. 208 final rule (supra). The Alliance believed that this CRS should be removed from Appendix A because it is no longer available on the market, few were sold, and because its inclusion is inconsistent with the principles and criteria that the agency announced that it would use to select CRSs for Appendix A. (In a November 2003 final rule responding to petitions for reconsideration of the amendments made in December 2001 to our May 2000 Advanced Air Bag rule, we stated that we would limit Appendix A to those restraints that represented large portions of the CRS market, while including exceptionally large or small restraints. See 68 FR 65188.)

Response: NHTSA has decided to deny the petition. The agency is undertaking an assessment of the CRSs currently on the market to assure the CRS fleet is adequately represented in Appendix A. Information provided by the Alliance in its petition in support of removing the Britax Expressway ISOFIX will be included in our assessment. Upon completion of that assessment, NHTSA will determine whether revisions to Appendix A are warranted, including the appropriateness of the inclusion of the Britax Expressway ISOFIX. We prefer to take a comprehensive evaluation of the CRSs in Appendix A rather than focusing on a solitary restraint such as the Britax Expressway ISOFIX, to best ensure the robustness of air bag suppression or LRD systems when tested with CRSs under conditions representative of real world use. Prior to the comprehensive assessment, we cannot agree that a particular CRS should be excluded, and so we are denying the Alliance's petition on the Britax Expressway ISOFIX. NHTSA will be issuing an NPRM proposing to update Appendix A shortly.

V. Rulemaking Analyses and Notices

A. Executive Order 12866 and DOT Regulatory Policies and Procedures

This rulemaking document was not reviewed by the Office of Management and Budget under E.O. 12866. It is not considered to be significant under E.O. 12866 or the Department's Regulatory Policies and Procedures (44 FR 11034; February 26, 1979). This document establishes procedures for installing LATCH-equipped CRSs to demonstrate compliance with the advanced air bag requirements. The procedures will provide a repeatable and reproducible method for installing LATCH-equipped CRSs in a manner representative of a secure attachment in the real world. This final rule specifies procedures that NHTSA will use; it does not require manufacturers to use the procedures. The equipment necessary for the procedure will cost vehicle manufacturers and testing laboratories choosing to use the procedure less than $50. The minimal impacts of today's amendment do not warrant preparation of a regulatory evaluation.

B. Regulatory Flexibility Act

In compliance with the Regulatory Flexibility Act, 5 U.S.C. 60l et seq., NHTSA has evaluated the effects of this action on small entities. I hereby certify that this final rule will not have a significant impact on a substantial number of small entities. The rule affects motor vehicle manufacturers, multistage manufacturers and alterers. Those entities that qualify as small businesses will not be significantly affected by this rule because they are already required to comply with the advanced air bag requirements. This final rule does not establish new requirements, but instead provides specific procedures that NHTSA will use to determine compliance with existing requirements.

C. Executive Order 13132

NHTSA has examined today's final rule pursuant to Executive Order 13132 (64 FR 43255, August 10, 1999) and concluded that no additional consultation with States, local governments or their representatives is mandated beyond the rulemaking process. The agency has concluded that the rule does not have federalism implications because the rule does not have “substantial direct effects on the States, on the relationship between the national government and the States, or on the distribution of power and responsibilities among the various levels of government.”

Further, no consultation is needed to discuss the preemptive effect of today's rule. NHTSA rules can have preemptive effect in at least two ways. First, the National Traffic and Motor Vehicle Safety Act contains an express preemptive provision: “When a motor vehicle safety standard is in effect under this chapter, a State or a political subdivision of a State may prescribe or continue in effect a standard applicable to the same aspect of performance of a motor vehicle or motor vehicle equipment only if the standard is identical to the standard prescribed under this chapter.” 49 U.S.C. 30103(b)(1). It is this statutory command that preempts State law, not today's rulemaking, so consultation would be inappropriate.

In addition to the express preemption noted above, the Supreme Court has also recognized that State requirements imposed on motor vehicle manufacturers, including sanctions imposed by State tort law, can stand as an obstacle to the accomplishment and execution of a NHTSA safety standard. When such a conflict is discerned, the Supremacy Clause of the Constitution makes their State requirements unenforceable. See Geier v. American Honda Motor Co., 529 U.S. 861 (2000). NHTSA has not outlined such potential State requirements in today's rulemaking, however, in part because such conflicts can arise in varied contexts, but it is conceivable that such a conflict may become clear through subsequent experience with today's standard and test regime. NHTSA may opine on such conflicts in the future, if warranted. See id. at 883-86.

D. National Environmental Policy Act

NHTSA has analyzed this rule for the purposes of the National Environmental Policy Act. The agency has determined that implementation of this action would not have any significant impact on the quality of the human environment.

E. Paperwork Reduction Act

Under the procedures established by the Paperwork Reduction Act of 1995, a person is not required to respond to a collection of information by a Federal agency unless the collection displays a valid OMB control number. This final rule does not establish any new information collection requirements.

F. National Technology Transfer and Advancement Act

Under the National Technology Transfer and Advancement Act of 1995 (NTTAA) (Pub. L. 104-113), “all Federal agencies and departments shall use technical standards that are developed or adopted by voluntary consensus standards bodies, using such technical standards as a means to carry out policy objectives or activities determined by the agencies and departments.” There are no voluntary consensus standards that address the installation of LATCH-equipped CRSs.

G. Executive Order 12988

With respect to the review of the promulgation of a new regulation, section 3(b) of Executive Order 12988, “Civil Justice Reform” (61 FR 4729, February 7, 1996) requires that Executive agencies make every reasonable effort to ensure that the regulation: (1) Clearly specifies the preemptive effect; (2) clearly specifies the effect on existing Federal law or regulation; (3) provides a clear legal standard for affected conduct, while promoting simplification and burden reduction; (4) clearly specifies the retroactive effect, if any; (5) adequately defines key terms; and (7) addresses other important issues affecting clarity and general draftsmanship under any guidelines issued by the Attorney General. This document is consistent with that requirement.

Pursuant to this Order, NHTSA notes as follows. The preemptive effect of this rule is discussed above. NHTSA notes further that there is no requirement that individuals submit a petition for reconsideration or pursue other administrative proceeding before they may file suit in court.

H. Unfunded Mandates Reform Act

The Unfunded Mandates Reform Act of 1995 requires agencies to prepare a written assessment of the costs, benefits and other effects of proposed or final rules that include a Federal mandate likely to result in the expenditure by State, local or tribal governments, in the aggregate, or by the private sector, of more than $100 million annually (adjusted for inflation with base year of 1995). This final rule will not result in expenditures by State, local or tribal governments, in the aggregate, or by the private sector in excess of $100 million annually.

I. Executive Order 13045

Executive Order 13045 (62 FR 19885, April 23, 1997) applies to any rule that: (1) Is determined to be “economically significant” as defined under E.O. 12866, and (2) concerns an environmental, health, or safety risk that NHTSA has reason to believe may have a disproportionate effect on children. This final rule is not subject to the Executive Order because it is not economically significant as defined in E.O. 12866.

J. Executive Order 13211

Executive Order 13211 (66 FR 28355, May 18, 2001) applies to any rule that: (1) Is determined to be economically significant as defined under E.O. 12866, and is likely to have a significantly adverse effect on the supply of, distribution of, or use of energy; or (2) that is designated by the Administrator of the Office of Information and Regulatory Affairs as a significant energy action. This final rule is not subject to E.O. 13211.

K. Plain Language

Executive Order 12866 and the President's memorandum of June 1, 1998, require each agency to write all rules in plain language. Application of the principles of plain language includes consideration of the following questions:

• Have we organized the material to suit the public's needs?

• Are the requirements in the rule clearly stated?

• Does the rule contain technical language or jargon that isn't clear?

• Would a different format (grouping and order of sections, use of headings, paragraphing) make the rule easier to understand?

• Would more (but shorter) sections be better?

• Could we improve clarity by adding tables, lists, or diagrams?

• What else could we do to make the rule easier to understand?

If you have any responses to these questions, please include them in your comments on this proposal.

L. Regulation Identifier Number (RIN)

The Department of Transportation assigns a regulation identifier number (RIN) to each regulatory action listed in the Unified Agenda of Federal Regulations. The Regulatory Information Service Center publishes the Unified Agenda in April and October of each year. You may use the RIN contained in the heading at the beginning of this document to find this action in the Unified Agenda.

M. Privacy Act

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

List of Subjects in 49 CFR Part 571

Imports, Motor vehicle safety, Motor vehicles, and Tires.

In consideration of the foregoing, NHTSA amends 49 CFR part 571 as set forth below.

PART 571—FEDERAL MOTOR VEHICLE SAFETY STANDARDS

1. The authority citation for part 571 continues to read as follows:

Authority: 49 U.S.C. 322, 30111, 30115, 30117 and 30166; delegation of authority at 49 CFR 1.50.

2. Section 571.208 is amended by:

a. Revising S20.2.1.1 through S20.2.1.5, S20.4.6, S22.2.1, S22.2.1.4, S22.2.1.5, S22.2.1.6 through S22.2.1.6.2, S22.2.1.7, S22.2.1.8, S24.2, S24.2.2, and section C of Appendix A;

b. Adding S20.2.1.6, S20.2.1.6.1, S20.2.1.6.2, S22.2.1.7.1 through S22.2.1.7.3, S22.2.1.8.1 through S22.2.1.8.4, Figures A1 and A2 at the end of Appendix A; and

c. Removing S22.2.1.5.1, S22.2.1.5.2, S22.2.1.5.3, S22.2.1.6.3, S22.2.1.6.4, to read as follows:

§ 571.208 Standard No. 208; Occupant crash protection.

* * * * *

S20.2.1.1 The vehicle shall comply in tests using any child restraint specified in section B and section C of Appendix A of this standard, installed in the front outboard passenger vehicle seat in the following orientations:

(a) With the section B and section C child restraints facing rearward as appropriate; and

(b) With the section C child restraints facing forward.

S20.2.1.2 The vehicle shall comply with the child restraint attached to the vehicle in the following manner:

(a) Using the vehicle safety belts as specified in S20.2.1.5; and

(b) If the child restraint is certified to S5.9 of § 571.213, and the vehicle seat has an anchorage system as specified in § 571.225, using only the mechanism provided by the child restraint manufacturer for attachment to the lower anchorages as specified in S20.2.1.6.

S20.2.1.3 Locate a vertical plane through the longitudinal centerline of the child restraint. This will be referred to as “Plane A.”

S20.2.1.4 For bucket seats, “Plane B” refers to a vertical plane parallel to the vehicle longitudinal centerline through the longitudinal centerline of the front outboard passenger vehicle seat cushion. For bench seats, “Plane B” refers to a vertical plane through the front outboard passenger vehicle seat parallel to the vehicle longitudinal centerline the same distance from the longitudinal centerline of the vehicle as the center of the steering wheel.

S20.2.1.5 Installation with vehicle safety belts.

(a) Place any adjustable seat belt anchorages at the vehicle manufacturer's nominal design position for a 50th percentile adult male occupant.

(b) Without attaching the child restraint anchorage system components specified in S5.9 of § 571.213 to a vehicle child restraint anchorage system specified in § 571.225, align the child restraint system facing rearward or forward, depending on the orientation being tested, such that Plane A is aligned with Plane B.

(c) While maintaining the child restraint positions achieved in S20.2.1.5(b), secure the child restraint by following, to the extent possible, the child restraint manufacturer's directions regarding proper installation of the restraint for the orientation being tested. Cinch the vehicle belts to any tension from zero up to 134 N to secure the child restraint. Measure belt tension in a flat, straight section of the lap belt between the child restraint belt path and the contact point with the belt anchor or vehicle seat, on the side away from the buckle (to avoid interference from the shoulder portion of the belt).

(d) Position the 49 CFR part 572 subpart R 12-month-old CRABI dummy in the child restraint by following, to the extent possible, the manufacturer's instructions provided with the child restraint for seating infants.

(e) Start the vehicle engine or place the ignition in the “on” position, whichever will turn on the suppression system, and close all vehicle doors. Wait 10 seconds, then check whether the air bag is deactivated.

S20.2.1.6 Installation using the lower anchor bars and the child restraint manufacturer provided attachment mechanism.

S20.2.1.6.1 If the attachment mechanism provided by the manufacturer incorporates a strap(s), use the following procedure:

(a) Place the child restraint on the vehicle seat facing rearward or forward, depending on the orientation being tested, with Plane A of the child restraint aligned within ±10 mm with a longitudinal vertical plane passing though a point midway between the centers of the two lower anchor bars.

(b) Position any adjustments on the child restraint, to the extent possible according to the child restraint manufacturer's instructions.

(c) Connect the lower anchor straps of the restraint to the lower anchor bars of the seat and remove the slack, but do not apply any load using these straps.

(d) Move the child restraint rearward until it contacts the seat back.

(e) Use the loading device equipped with the loading foot shown in Figure A1 and position it as shown in Figure A2 of Appendix A of this section. The 15±3 degree angle of the loading device illustrated in Figure A2 is determined with an initial preload of 75±25N.

(f) Over a period of 90±30 seconds, increase the load to 875N±25 N.

(g) After achieving the 875 N load in step (f) of this section, hold the bar length at present position and allow the load to settle for 60 seconds.

(h) Following the one-minute settling period specified in step (g) of this section, increase the load to 875±25 N such that the 875±25 N load is achieved within 10 seconds of the settling period.

(i) Hold the bar length at present position and allow the load to settle for 120 seconds after achieving the load in step (f) of this section.

(j) Following the settling period specified in step (i) of this section, increase the load to 875±25 N such that the 875±25 N load is achieved within 10 seconds of the settling period.

(k) Observe the settling of the load and tighten the lower anchor straps when the load is 850±5N or 180 seconds has elapsed since achieving the 875±25 N load in step (f) of this section, whichever comes first. Tighten the lower anchor straps at the same time such that the load is reduced 15±10 N and the change occurs within 2 seconds.

(l) Remove the loading device and position the 49 CFR part 572 subpart R 12-month-old CRABI dummy in the child restraint by following, to the extent possible, the manufacturer's instructions provided with the child restraint for seating infants.

(m) Start the vehicle engine or place the ignition in the “on” position, whichever will turn on the suppression system, and close all vehicle doors. Wait 10 seconds, then check whether the air bag is deactivated.

S20.2.1.6.2 If the mechanism provided by the manufacturer does not incorporate a strap(s), use the following procedure:

(a) Place the vehicle seat in the rearmost and mid-height position.

(b) Place the child restraint on the vehicle seat facing rearward or forward, depending on the orientation being tested, with Plane A of the child restraint aligned within ±10 mm with a longitudinal vertical plane passing though a point midway between the centers of the two lower anchor bars.

(c) Position any adjustments on the child restraint, to the extent possible, according to the child restraint manufacturer's instructions.

(d) Connect the lower anchor attachments to the lower anchor bars following, to the extent possible, the child restraint manufacturer's instructions.

(e) Move the child restraint rearward until it contacts the seat back.

(f) If the child restraint does not use a linear sliding or ratcheting mechanism that requires the application of force to securely install the child restraint, follow, to the extent possible, the CRS manufacturer's instructions for installing the child restraint onto the seat. Do not load the seat as provided in S20.2.1.6.2(g).

(g) If the child restraint uses a linear sliding or ratcheting mechanism that requires the application of force to securely install the child restraint, within 25± 5 seconds, apply a 475 N force, that has no lateral component, aligned angularly ±10 degrees with a parallel plane located within ±100 mm of the plane formed by the linear mechanism. Release the force.

(h) Position the 49 CFR part 572 subpart R 12-month-old CRABI dummy in the child restraint by following, to the extent possible, the manufacturer's instructions provided with the child restraint for seating infants.

(i) Move the vehicle seat to the seat position being tested (full rear, mid, full forward).

(j) Start the vehicle engine or place the ignition in the “on” position, whichever will turn on the suppression system, and close all vehicle doors. Wait 10 seconds, then check whether the air bag is deactivated.

* * * * *

S20.4.6 If the child restraint is certified to S5.9 of § 571.213, and the vehicle seat has an anchorage system as specified in § 571.225, attach the child restraint to the vehicle seat anchorage as specified in S20.2.1.6. Do not attach the top tether of the child restraint system. Do not attach the vehicle safety belt.

* * * * *

22.2.1 Belted test with forward facing or booster seat child restraint

* * * * *

S22.2.1.4 The vehicle shall comply with the child restraint belted to the vehicle in the following manner:

(a) Using the vehicle safety belts as specified in S22.2.1.5 with section C and section D child restraints of Appendix A of this section designed to be secured to the vehicle seat even when empty; and

(b) If the child restraint is certified to S5.9 of § 571.213, and the vehicle seat has an anchorage system as specified in § 571.225, using only the mechanism provided by the child restraint manufacturer for attachment to the lower anchorage as specified in S22.2.1.6.

S22.2.1.5 Installation with vehicle safety belts.

(a) Place any adjustable safety belt anchorages at the vehicle manufacturer's nominal design position for a 50th percentile adult male occupant.

(b) Without attaching the child restraint anchorage system components specified in S5.9 of § 571.213 to a vehicle child restraint anchorage system specified in § 571.225, align the child restraint system facing forward, such that Plane A is aligned with Plane B.

(c) While maintaining the child restraint positions achieved in S22.2.1.5(b), secure the child restraint by following, to the extent possible, the child restraint manufacturer's directions regarding proper installation of the restraint. Cinch the vehicle belts to any tension from zero up to 134 N to secure the child restraint. Measure belt tension in a flat, straight section of the lap belt between the child restraint belt path and the contact point with the belt anchor or vehicle seat, on the side away from the buckle (to avoid interference from the shoulder portion of the belt).

S22.2.1.6 Installation using the lower anchor bars and the attachment mechanism provided by the child restraint manufacturer.

S22.2.1.6.1 If the mechanism provided by the manufacturer incorporates a strap(s), use the following procedure.

(a) Place the child restraint on the vehicle seat facing forward, with Plane A of the child restraint aligned within ±10 mm with a longitudinal vertical plane passing through a point midway between the centers of the two lower anchor bars.

(b) Position any adjustments on the child restraint, to the extent possible, according to the child restraint manufacturer's instructions.

(c) Connect the lower anchor straps to the lower anchor bars and remove most of the slack, but do not apply any load using these straps.

(d) Move the child restraint rearward until it contacts the seat back.

(e) Do not attach any top tethers.

(f) Use the loading device equipped with the loading foot shown in Figure A1 and position it as shown in Figure A2 of Appendix A of this standard. The 15±3 degree angle of the loading device is determined with an initial preload of 75±25 N.

(g) Over a period of 90±30 seconds, increase the load to 875±25 N.

(h) After achieving the 875 N load in step (g) of this section, hold the bar length at the present position and allow the load to settle for 60 seconds.

(i) Following the one-minute settling period specified in step (h) of this section, increase the load to 875± 25 N such that the 875± 25 N load is achieved within 10 seconds of the settling period.

(j) Hold the bar length at present position and allow the load to settle for 120 seconds after achieving the load in step (g) of this section.

(k) Following the settling period specified in step (j) of this section, increase the load to 875± 25 N such that the 875± 25 N load is achieved within 10 seconds of the settling period.

(l) Observe the settling of the load and tighten the lower anchor straps when the load is 850±5N or 180 seconds has elapsed since achieving the 875± 25 N load in step (g) of this section, whichever comes first. Tighten the lower anchor straps at the same time such that the load is reduced 15± 10 N and the change occurs within 2 seconds.

(m) Remove the loading device.

S22.2.1.6.2 If the mechanism provided by the manufacturer does not incorporate a strap(s), use the following procedure.

(a) Place the vehicle seat in the rear-most and mid-height position.

(b) Place the child restraint on the vehicle seat facing forward with Plane A of the child restraint aligned within ±10 mm with a longitudinal vertical plane passing through a point midway between the centers of the two lower anchor bars.

(c) Position any adjustments on the child restraint, to the extent possible, according to the child restraint manufacturer's instructions.

(d) Connect the lower anchor attachments to the lower anchor bars following, to the extent possible, the child restraint manufacturer's instructions.

(e) Move the child restraint rearward until it contacts the seat back.

(f) Do not attach any top tethers.

(g) If the child restraint does not use a linear sliding or ratcheting mechanism that requires the application of force to securely install the child restraint, follow, to the extent possible, the manufacturer's instructions for installing the child restraint onto the seat. Do not load the seat as provided in S22.2.1.6.2(h).

(h) If the child restraint uses a linear sliding or ratcheting mechanism that requires the application of force to securely install the child restraint, within 25±5 seconds apply a 475 N force, that has no lateral component, aligned angularly ±10 degrees with a parallel plane located within ±100 mm of the plane formed by the linear mechanism. Release the force.

(i) Move the vehicle seat to the seat position being tested (full rear, mid, full forward).

S22.2.1.7 Forward facing child restraint.

S22.2.1.7.1 After installation of a forward facing child restraint, position the 49 CFR part 572 subpart P 3-year-old child dummy in the child restraint such that the dummy's lower torso is centered on the child restraint and the dummy's spine is against the seat back of the child restraint. Place the arms at the dummy's sides.

S22.2.1.7.2 Attach all belts that come with the child restraint that are appropriate for a child of the same height and weight as the 3-year-old child dummy, if any, by following, to the extent possible, the manufacturer's instructions provided with the child restraint for seating children.

S22.2.1.7.3 Start the vehicle engine or place the ignition in the “on” position, whichever will turn on the suppression system, and close all vehicle doors. Wait 10 seconds, then check whether the air bag is deactivated.

S22.2.1.8 Booster seat child restraint.

S22.2.1.8.1 After installation of a booster seat child restraint, position the 49 CFR part 572 subpart P 3-year-old child dummy in the booster seat such that the dummy's lower torso is centered on the booster seat cushion and the dummy's back is parallel to and in contact with the booster seat back or, if there is no booster seat back, the vehicle seat back. Place the arms at the dummy's sides.

S22.2.1.8.2 If applicable, attach all belts that come with the child restraint that are appropriate for a child of the same height and weight as the 3-year-old child dummy, if any, by following, to the extent possible, the manufacturer's instructions provided with the child restraint for seating children.

S22.2.1.8.3 If applicable, place the Type 2 manual belt around the test dummy and fasten the latch. Remove all slack from the lap belt portion. Pull the upper torso webbing out of the retractor and allow it to retract; repeat this four times. Apply a 9 to 18 N (2 to 4 lb) tension load to the lap belt. Allow the excess webbing in the upper torso belt to be retracted by the retractive force of the retractor.

S22.2.1.8.4 Start the vehicle engine or place the ignition in the “on” position, whichever will turn on the suppression system, and then close all vehicle doors. Wait 10 seconds, then check whether the air bag is deactivated.

* * * * *

S24.2 Static tests of automatic suppression feature which shall result in deactivation of the passenger air bag. Each vehicle that is certified as complying with S23.2 of FMVSS No. 208 shall meet the following test requirements with the child restraint in the front outboard passenger vehicle seat under the following conditions:

(a) Using the vehicle safety belts as specified in S22.2.1.5 with section D child restraints designed to be secured to the vehicle seat even when empty;

(b) If the child restraint is certified to S5.9 of § 571.213, and the vehicle seat has an anchorage system as specified in § 571.225, using only the mechanism provided by the child restraint manufacturer for attachment to the lower anchorage as specified in S22.2.1.6; and

(c) Without securing the child restraint with either the vehicle safety belts or any mechanism provided with a child restraint certified to S5.9 of § 571.213.

* * * * *

S24.2.2 Exceptions. The tests specified in the following paragraphs of S22.2 need not be conducted: S22.2.1.7, S22.2.2.3, S22.2.2.5, S22.2.2.6, S22.2.2.7, and S22.2.2.8.

* * * * *

Appendix A to § 571.208

* * * * *

C. Any of the following forward facing toddler and forward-facing convertible child restraint systems, manufactured on or after December 1, 1999, may be used by the National Highway Traffic Safety Administration to test the suppression system of a vehicle that is manufactured on or after the effective date and prior to the termination date specified in the table below and that has been certified as being in compliance with 49 CFR 571.208 S19, or S21. (Note: Any child restraint listed in this subpart that is not recommended for use in a rear-facing position by its manufacturer is excluded from use in testing in a rear-facing configuration under S20.2.1.1(a)).

| Effective and termination dates: January 17, 2002 | Effective and termination dates: September 1, 2008
Britax Roundabout 161 | Effective | Remains Effective.
Britax Expressway |  | Effective.
Century Encore 4612 | Effective | Remains Effective.
Century STE 1000 4416 | Effective | Remains Effective.
Cosco Olympian 02803 | Effective | Remains Effective.
Cosco Touriva 02519 | Effective | Remains Effective.
Evenflo Horizon V 425 | Effective | Remains Effective.
Evenflo Medallion 254 | Effective | Remains Effective.
Safety 1st Comfort Ride 22-400 |  | Effective.

* * * * *

BILLING CODE 4910-59-P

Issued on July 9, 2007.
Nicole R. Nason,
Administrator.

[FR Doc. E7-13565 Filed 7-23-07; 8:45 am]

BILLING CODE 4910-59-P